NUCLEAR REGULATORY COMMISSION

[Docket No. 50-271; NRC-2009-0121]

Entergy Nuclear Operations, Inc., Vermont Yankee Nuclear Power Station; Environmental Assessment and Finding of No Significant Impact

The U.S. Nuclear Regulatory Commission (NRC) is considering issuance of a revision of an existing exemption from Title 10 of the Code of Federal Regulations (10 CFR) part 50, Appendix R, “Fire Protection Program of Nuclear Power Facilities Operating Prior to January 1, 1979,” for Automatic Fire Suppression, Separation, and Repairs, issued to Entergy Nuclear Operations, Inc. (the licensee), for operation of Vermont Yankee Nuclear Power Station (VY), located in Windham County, Vermont. Therefore, as required by 10 CFR 51.21, the NRC is issuing this environmental assessment and finding of no significant impact.

Environmental Assessment

Identification of the Proposed Action

The proposed action would revise the exemption from the provisions of 10 CFR part 50, Appendix R, Section III.G.2 (III.G.2), dated December 1, 1986, which in part permitted a reduction in minimum separation distance between cable trays in the northwest corner of Fire Zone RB-3 of the reactor building to 18 feet. VY has requested a revision of the existing exemption to permit the actual minimum separation distance of 17 feet-7.5 inches.

The proposed action is in accordance with the licensee's application dated July 11, 2008, as supplemented by letter dated November 20, 2008.

The Need for the Proposed Action

The proposed revision of an existing exemption from 10 CFR part 50, Appendix R, is needed to permit a reduction in minimum separation distance between cable trays from 18 feet to 17 feet-7.5 inches. VY has performed a Fire Protection evaluation, using NRC Generic Letter 86-10, “Implementation of Fire Protection Requirements,” and concluded that there is no impact on VY's safe shutdown capability by this reduction in separation.

Environmental Impacts of the Proposed Action

The NRC has completed its safety evaluation (SE) of the proposed action and concludes that the further reduction in minimum separation distance is sufficient to maintain an adequate level of safety to meet the requirements of 10 CFR 50.12(a)(2)(ii) in that the application of the regulation is not necessary to achieve the underlying purpose of the rule. The details of the staff's SE will be provided in the exemption that will be issued as part of the letter to the licensee approving the exemption.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for VY.

Agencies and Persons Consulted

In accordance with its stated policy, on January 15, 2009, the NRC staff consulted with the Vermont State official of the Vermont Department of Public Service regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 11, 2008, Agencywide Documents Access and Management System (ADAMS) accession number ML081000176, as supplemented by letter dated November 20, 2008, ADAMS accession number ML083370180. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 11th day of March 2009.
For the Nuclear Regulatory Commission.
James Kim,
Project Manager, Plant Licensing Branch I-1, Division of Operating Reactor Licensing, Office of Nuclear Reactor Regulation.

[FR Doc. E9-5811 Filed 3-17-09; 8:45 am]

BILLING CODE 7590-01-P